DEPARTMENT OF AGRICULTURE

Agricultural Marketing Service

7 CFR Part 929

[Doc. No. AMS-SC-16-0041; SC16-929-1]

Cranberries Grown in the States of Massachusetts, Rhode Island, Connecticut, New Jersey, Wisconsin, Michigan, Minnesota, Oregon, Washington, and Long Island in the State of New York; Order Amending Marketing Order 929

AGENCY: Agricultural Marketing Service, USDA.

ACTION: Notification of disposition.

SUMMARY: Notice is hereby given that a referendum to amend Marketing Order and Agreement No. 929 (order), which regulates the handling of cranberries grown in the states of Massachusetts, Rhode Island, Connecticut, New Jersey, Wisconsin, Michigan, Minnesota, Oregon, Washington, and Long Island in the State of New York, did not meet the minimum voting requirements for approval. The Agricultural Marketing Agreement Act of 1937, as amended, hereinafter referred to as the “Act” requires, in part, that a proposed amendment to the cranberries order must be approved by two-thirds of producers voting, or by those voting in the referendum representing at least two-thirds of the volume of cranberries, as well as by processors who have frozen or canned more than 50 percent of the volume of cranberries within the production area. Processors representing only 18 percent of the volume of cranberries within the production area voted in the referendum. Because a minimum of 50 percent of the volume of cranberries processed within the production area is required in order to pass, the referendum did not pass and the proposed amendment will not be implemented. The amendment, which was proposed by the Cranberry Marketing Committee (Committee), would have authorized the Committee to receive and expend voluntary contributions from domestic sources.

DATES: This action is effective August 8, 2017.

FOR FURTHER INFORMATION CONTACT: Geronimo Quinones, Marketing Specialist, or Julie Santoboni, Rulemaking Branch Chief, Marketing Order and Agreement Division, Specialty Crops Program, AMS, USDA, 1400 Independence Avenue SW., Stop 0237, Washington, DC 20250-0237; Telephone: (202) 720-2491, Fax: (202) 720-8938, or Email: Geronimo.Quinones@ams.usda.gov or Julie.Santoboni@ams.usda.gov.

ADDRESSES: Small businesses may request information on complying with this regulation by contacting Richard Lower, Marketing Order and Agreement Division, Specialty Crops Program, AMS, USDA, 1400 Independence Avenue SW., STOP 0237, Washington, DC 20250-0237; Telephone: (202) 720-2491, Fax: (202) 720-8938, or Email: Richard.Lower@ams.usda.gov.

SUPPLEMENTARY INFORMATION: Marketing Order and Agreement No. 929 (order) regulates the handling of cranberries grown in the states of Massachusetts, Rhode Island, Connecticut, New Jersey, Wisconsin, Michigan, Minnesota, Oregon, Washington, and Long Island in the State of New York. The order is effective under the Agricultural Marketing Agreement Act of 1937, as amended (7 U.S.C. 601-674), hereinafter referred to as the “Act”. Section 608c(17) of the Act and the applicable rules of practice and procedure (7 CFR part 900) authorize the use of informal rulemaking to amend the order.

A proposed rule and referendum order was issued on December 14, 2016, and published in the Federal Register on December 21, 2016 (81 FR 93642). This document directed that a referendum among cranberry producers and processors be conducted during the period of January 23, 2017 through February 13, 2017, to determine whether they favored the proposed amendment to the order. The proposed amendment would authorize the Cranberry Marketing Committee (Committee) to receive and expend voluntary contributions from domestic sources. To become effective, the Act requires that the amendment be approved by two-thirds of producers voting, or by those voting in the referendum representing at least two-thirds of the volume of cranberries. Processors who have processed over 50 percent of the total volume of cranberries processed during a representative period must also approve the amendment.

After tabulation of the ballots, the amendment was approved by 89 percent of the number of producers voting and by 96 percent of the volume voted in the referendum, which exceeds the required two-thirds approval of the producers voting in the referendum or two-thirds of the volume represented in the referendum. Of the processors voting, 89 percent voted in favor of the proposed amendment. However, those processors only represented 18 percent of the total 2015-16 processed production volume. Because a minimum of 50 percent of the total volume of cranberries processed must be represented by the processors voting to approve an amendment, the referendum did not pass. Consequently, the proposed amendment will not be implemented.

Authority: 7 U.S.C. 601-674.

Dated: August 2, 2017.
Bruce Summers,
Acting Administrator, Agricultural Marketing Service.

[FR Doc. 2017-16656 Filed 8-7-17; 8:45 am]

BILLING CODE 3410-02-P